DEPARTMENT OF AGRICULTURE

Forest Service

Notice of New Fee Sites

AGENCY: Helena—Lewis & Clark National Forest, USDA Forest Service.

ACTION: Notice of new fee sites.

SUMMARY: The Helena—Lewis & Clark National Forest is proposing to implement new fees at the following sites: Three rental cabins, one campground, and one group campground. The Forest is proposing to charge at the following sites:

• Indian Meadows Cabin; Lincoln Ranger District: Proposed fee of $65 per night.

• Mergenthaler Cabin; Helena Ranger District: Proposed fee of $60 per night.

• Nevada Creek Cabin; Lincoln Ranger District: Proposed fee of $45 per night.

• Quigley Group Campground; Helena Ranger District: Proposed fee of $50 per night.

• Hay Canyon Campground; Musselshell Ranger District: Proposed Fee of $10 per night

These fees are only proposed and will be determined upon further analysis and public comment.

DATES: Send any comments about these fee proposals by September 4, 2018 so comments can be compiled, analyzed, and shared with the Western Montana (or North-Central for Hay Canyon Campground) Bureau of Land Management (BLM) Recreation Resource Advisory Committees. The proposed effective date of implementation of proposed new fees will be no earlier than six months after publication of this notice.

ADDRESSES: William Avey, Forest Supervisor, Helena—Lewis & Clark National Forest, 2880 Skyway Drive, Helena, MT 59602 or Email to wavey@fs.fed.us.

FOR FURTHER INFORMATION CONTACT: Rory Glueckert, Forest Recreation Program Manager, Helena—Lewis & Clark National Forest at 406-495-3761 or rglueckert@fs.fed.us; Information about proposed fee changes can also be found on the Helena—Lewis & Clark National Forest website at http://www.fs.usda.gov/main/helena.

SUPPLEMENTARY INFORMATION: The Federal Recreation Lands Enhancement Act (Title VII, P.L. 108-447) directed the Secretary of Agriculture to publish a six month advance notice in the Federal Register whenever new recreation fee areas are established.

Once public involvement is complete, these new fees will be reviewed by the BLM Western or North Central Montana Recreation Resource Advisory Committees (depending on site location) prior to a final decision and implementation.

Reasonable fees, paid by users of these sites and services, will help ensure that the Forest can continue maintaining and improving the sites for future generations. A market analysis of surrounding recreation sites with similar amenities indicates that the proposed fees are comparable and reasonable.

Advance reservations for the Indian Meadows, Mergenthaler, and Nevada Creek Cabins and the Quigley Group Campground will be available through www.recreation.gov or by calling 1-877-444-6777. The reservation service charges a $10 fee for reservations.

Dated: January 10, 2018.
Chris French,
Associate Deputy Chief, National Forest System.

Editorial note: This document was received for publication by the Office of the Federal Register on July 30, 2018.

[FR Doc. 2018-16560 Filed 8-1-18; 8:45 am]

BILLING CODE 3411-15-P